DEPARTMENT OF COMMERCE

International Trade Administration

Cyber Security Business Development Mission to Poland and Romania May 11-15, 2015

AGENCY: International Trade Administration, Department of Commerce.

ACTION: Notice.

SUMMARY: The United States Department of Commerce, International Trade Administration, is amending the Notice published at 79 FR 58746 (September 30, 2014), regarding the executive-led Cyber Security Business Development Mission to Poland and Romania, scheduled for May 11-15, 2015, to announce new leadership in the trade mission and to extend the date of the application deadline from March 1, 2015 to the new deadline of March 13, 2015.

SUPPLEMENTARY INFORMATION: Amendments to Announce Leadership and Revise the Dates.

Background

The United States Department of Commerce is pleased to announce that the Cyber Security Business Development Mission to Poland and Romania will now be led by the Deputy Secretary of Commerce, Bruce H. Andrews. Due to this change in leadership, it has been determined that additional time is needed to allow for additional recruitment and marketing in support of the Mission. Applications will now be accepted through March 13, 2014 (and after that date if space remains and scheduling constraints permit). Interested U.S. companies and trade associations/organizations providing cyber security software and critical infrastructure goods and services which have not already submitted an application are encouraged to do so.

The U.S. Department of Commerce will review applications and make selection decisions on a rolling basis in accordance with the Notice published at 79 FR 58746 (September 30, 2014) The applicants selected will be notified as soon as possible.

Contact Information

Gemal Brangman, International Trade Specialist, Trade Missions, U.S. Department of Commerce, Washington, DC 20230, Tel: 202-482-3773, Fax: 202-482-9000, Gemal.Brangman@trade.gov.

Frank Spector,
Trade Missions Program.

[FR Doc. 2015-03341 Filed 2-17-15; 8:45 am]

BILLING CODE 3510-FP-P